FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR 515).

Persons knowing of any reason why the following applicants should not receive a license are requested to contact the Office of Transportation Intermediaries, Federal Maritime Commission, Washington, DC 20573.

Non-Vessel-Operating Common Carrier—Ocean Transportation Intermediary

Falcon Containerline LLC, 257 William Street, Piscataway, NJ 08854, Officers, Bilal B. Nasir, President, (Qualifying Individual), Nasir Amin, Secretary/Managing Director.

Non-Vessel-Operating Common Carrier and Ocean Freight Forwarder Transportation Intermediary Applicants

Best Way Logistics Corp., 901 SW. 98th Terrace, Pembroke Pines, FL 33025, Officers, Christopher J. Bouscher, President/Secretary, (Qualifying Individual), Gavin Bouscher, Vice President.

H.A.B. International, Inc., 8601 NW. 68th Street, Miami, FL 33166, Officers, Harold A. Beharry, President, (Qualifying Individual), Brehaspati Beharry, Vice President.

Guardian International, Inc., 3728 Lake Avenue, Ft. Wayne, IN 46805, Officers, Tonya R. Watson, Vice President, (Qualifying Individual), Sabah A. Qiyas, President.

D.J. Powers Company, Inc., 5000 Business Center Drive, Suite 1000, Savannah, GA 31405, Officers, Rhett N. Willis, President/CEO, (Qualifying Individual), Richard E. Carter, Chairman.

H T International Inc., 281 E. Redondo Beach Blvd., Gardena, CA 90248, Officers, Alessandro E. Bernardini, Sales Manager, (Qualifying Individual), Glenda Valdez, President/Corporate Secretary.

Non-Vessel-Operating Common Carrier and Ocean Freight Forwarder Transportation Intermediary Applicants (Cont'd):

Vortex Worldwide Logistics Corp., 10125 NW. 116th Way, #10, Miami, FL 33178, Officers, Christian M. Ollino, President/Secretary, (Qualifying Individual), Lisette A. Ollino, Vice President.

Coltrans (USA), Inc., 10925 NW. 27th Street, #102, Miami, FL 33172, Officers, Jan Gerdes, Vice President, (Qualifying Individual), Jochen Raute, President.

U.S.G.A. Logistic, Inc., 16206 Aldine Westfield Road, Houston, TX 77032, Officers, Frederic Lalou, COO, (Qualifying Individual), Jean Jacques Lalou, CEO.

Geevee Enterprises Inc. dba Aerosend, 245 W. Roosevelt Road, Building 12, Unit 90, West Chicago, IL 60185, Officers, Charity Marbella, Executive Vice President, (Qualifying Individual), Gil Valenzuela, President.

Dapex Inc., 83-77 Woodhaven Blvd., Suite 1D, Woodhaven, NY 11421, Officer; David Dvinov, President/Secretary, (Qualifying Individual).

Non-Vessel-Operating Common Carrier and Ocean Freight Forwarder Transportation Intermediary Applicants (Cont'd)

FSS Global Logistics Limited Liability Company, 40 Newport Parkway, Suite 1006, Jersey City, NJ 07310, Officers, Shafeik Bacchus, Manager, (Qualifying Individual), Sathya Prakash Santhanam, Chief Operating Officer.

Dated: February 4, 2010.
Karen V. Gregory,
Secretary.

[FR Doc. 2010-2819 Filed 2-8-10; 8:45 am]

BILLING CODE 6730-01-P